Title 3—

The President

Proclamation 7346 of September 29, 2000

National Breast Cancer Awareness Month, 2000

By the President of the United States of America

A Proclamation

As we once again observe National Breast Cancer Awareness Month, we can be heartened by the progress we have made in the battle against breast cancer. Today we have a better under standing of what causes the disease, and advances in research are leading to improvements in detection and diagnosis and to treatments that are improving patients' quality of life and chances of survival.

Two million Americans today are breast cancer survivors, thanks in large part to earlier detection and more effective treatments. Statistics from the Centers for Disease Control and Prevention (CDC) show that nearly 70 percent of women aged 50 and older have had a mammogram in the past 2 years, compared with only 27 percent in 1987. While these increases were found among women at all income levels, those with lower incomes are still less likely to be screened than those at higher income levels. The National Cancer Institute (NCI) and the Health Care Financing Administration are working together to inform women aged 65 and older that Medicare coverage is available for mammography screenings; and the CDC's National Breast and Cervical Cancer Early Detection provides free or low-cost mammograms to uninsured, low-income, and elderly women. And, to assist the thousands of low-income uninsured women whose breast cancer was detected through federally funded screening programs, my proposed budget for fiscal 2001 includes a new Medicaid option to fund the lifesaving follow-up treatment they need to increase their chances of survival.

Research is one of our most powerful tools in our effort to eradicate breast cancer, and I am proud that my Administration has made historic increases in funding for biomedical research. A number of Federal agencies and programs are adding to our knowledge about the disease. The National Toxicology Program (NTP), which is part of the National Institute of Environmental Health Services, is studying chemical compounds that may cause cancer in humans. Based on data from the NTP, agencies such as the Environmental Protection Agency and the Food and Drug Administration are working to reduce human exposure to environmental agents that might increase the risk for breast and other cancers. The NCI, through the Long Island Breast Cancer Study Project and the Triana Community Health Initiative, is exploring the possible relationship between different sources of pollution and the incidence of breast cancer. Findings from these studies will help researchers and health care providers identify women who are at higher risk for breast cancer and develop better strategies for preventing the disease.

The NCI's landmark Breast Cancer Prevention Trial (BCPT) focused on tamoxifen, an anti-estrogen medication that helps reduce the chance that women who are at higher risk for breast cancer will develop the disease. Building on the success of the BCPT, a current study of tamoxifen and raloxifene will determine whether raloxifene is as effective as tamoxifen, with fewer side effects. The NCI is also sponsoring clinical trials of sentinel node biopsy, a procedure where the surgical removal of a small number of lymph nodes can determine whether cancer has spread outside of the breast.

The American people have also played a role in funding research through activities such as the purchase of the 40-cent breast cancer awareness stamp from the U.S. Postal Service. The sale of this stamp has raised millions of dollars for breast cancer research, and, on July 28 of this year, I was proud to sign legislation authorizing the sale of this special stamp for an additional 2 years.

We are gaining ground in our fight against breast cancer, but we cannot become complacent. This year alone, more than 40,000 Americans will die from the disease, and an estimated 184,200 new cases will be diagnosed. We must continue to raise awareness among our friends, loved ones, and fellow citizens about the importance of screening and early detection and the need to support new research. By doing so, we will one day triumph over this devastating disease and ensure a brighter, healthier future for our children.

NOW, THEREFORE, I, WILLIAM J. CLINTON, President of the United States of America, by virtue of the authority vested in me by the Constitution and laws of the United States, do hereby proclaim October 2000 as National Breast Cancer Awareness Month. I call upon government officials, businesses, communities, health care professionals, educators, volunteers, and all the people of the United States to publicly reaffirm our Nation's strong and continuing commitment to controlling and curing breast cancer.

IN WITNESS WHEREOF, I have hereunto set my hand this twenty-ninth day of September, in the year of our Lord two thousand, and of the Independence of the United States of America the two hundred and twenty-fifth.

wj

[FR Doc. 00-25673

Filed 10-3-00; 8:45 am]

Billing code 3195-01-P